DEPARTMENT OF DEFENSE

Office of the Secretary

U.S. Nuclear Command and Control System Comprehensive Review Advisory Committee

AGENCY: Department of Defense.

ACTION: Notice.

SUMMARY: Under the provisions of the Federal Advisory Committee Act of 1972 (5 U.S.C., Appendix, as amended), the Government in the Sunshine Act of 1976 (5 U.S.C. paragraph 552b, as amended), and 41 CFR 102-3.150, the Department of Defense announces the following Federal Advisory Committee of the U.S. Nuclear Command and Control System Comprehensive Review Advisory Committee.

DATES: October 7, 2008 (0800-1700) and October 8, 2008 (0800-1600).

ADDRESSES: Kirtland AFB, NM and Pantex Facility, Amarillo, TX.

FOR FURTHER INFORMATION CONTACT: Mr. William L. Jones, (703) 681-8681, U.S. Nuclear Command and Control System Support Staff (NSS), Skyline 3, 5201 Leesburg Pike, Suite 500, Falls Church, Virginia 22041.

SUPPLEMENTARY INFORMATION: Purpose of the Meeting: The purpose of this meeting is to conduct administrative functions necessary for completing establishment of the U.S. Nuclear Command and Control System Federal Advisory Committee and to provide an overview of nuclear warhead design, management, transport, and associated processes, facilities and capabilities.

Agenda: Oct 7, 2008 ABQ/Kirtland AFB—Warhead/Weapon Systems.

Time | Topic | Presenter
8 a.m. | Badging for KUMMSC
8:45 a.m. | Administrative Remarks | CAPT Budney, NSS
9 a.m. | Nuclear Weapon design | NNSA
9:30 a.m. | POG Process | NNSA
9:45 a.m. | Break
10 p.m. | Report on Stockpile Assessment Process | NNSA, DoD
10:30 a.m. | PNAF Capabilities and Status | 4AS, McChord, AFB
11 a.m. | OST Facilities Tour | NNSA/OST
11:30 a.m. | Unauthorized Launch Analysis & Unauthorized Use Analysis process | AF Safety Ctr/NNSA
12 p.m. | Working Lunch
1:30 p.m. | Break—Bus to KUMMSC
1:45 p.m. | KUMMSC Tour
5 p.m. | Depart for Amarillo, TX

Oct 8, 2008 Amarillo, TX (Pantex Plant)—Warhead/Weapon Systems.

Time | Topic | Presenter
8 a.m. | Arrive at Pantex/Facility Tour
11 p.m. | Lunch
12 p.m. | DOE Stockpile Stewardship Program | NNSA/Labs
12:30 p.m. | Stockpile Modernization Plans | NNSA
1 p.m. | Use control | NNSA
1:30 p.m. | Responsive Infrastructure | NNSA
1:45 p.m. | Break
2 p.m. | Accident/Incident | DTRA
2:30 p.m. | DOE Personnel expertise issues | NNSA
3 p.m. | Executive Session
4 p.m. | Adjourn

Pursuant to 5 U.S.C. paragraph 552b, as amended, and 41 CFR paragraph 102-3.155, the Department of Defense has determined that the meeting shall be closed to the public. The Director, U.S. Nuclear Command and Control System Support Staff, in consultation with his General Counsel, has determined in writing that the public interest requires that all sessions of the committee's meeting will be closed to the public because they will be concerned with classified information and matters covered by section5 U.S.C. paragraph 552b(c)(1).

Pursuant to 41 CFR 102-3.105(j) and 102-3.140, and section 10(a)(3) of the Federal Advisory Committee Act of 1972, the public or interested organizations may submit written statements at any time to the Nuclear Command and Control System Federal Advisory Committee about its mission and functions. All written statements shall be submitted to the Designated Federal Officer for the Nuclear Command and Control System Federal Advisory Committee. He will ensure that written statements are provided to the membership for their consideration. Written statements may also be submitted in response to the stated agenda of planned committee meetings. Statements submitted in response to this notice must be received by the Designated Federal Official at least five calendar days prior to the meeting which is the subject of this notice. Written statements received after that date may not be provided or considered by the Committee until its next meeting. All submissions provided before that date will be presented to the committee members before the meeting that is subject of this notice. Contact information for the Designated Federal Officer is listed below.

Committee's Designated Federal Officer: Mr. William L. Jones, (703) 681-1924, U.S. Nuclear Command and Control System Support Staff (NSS), Skyline 3, 5201 Leesburg Pike, Suite 500, Falls Church, Virginia 22041. William.jones@nss.pentagon.mil.

Dated: September 3, 2008.
Patricia L. Toppings,
OSD Federal Register Liaison Officer, Department of Defense.

[FR Doc. E8-21091 Filed 9-10-08; 8:45 am]

BILLING CODE 5001-06-P